COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product(s) and service(s) to the Procurement List that will be furnished by nonprofit agencies employing persons who are blind or have other severe disabilities, and deletes product(s) and service(s) previously furnished by such agencies.

DATES: Comments must be received on or before: July 25, 2021.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following product(s) and service(s) are proposed for addition to the Procurement List for production by the nonprofit agencies listed:

Product(s)

NSN(s)—Product Name(s): MR 10810—Snack Bowl, Includes Shipper 20810

Designated Source of Supply: Winston-Salem Industries for the Blind, Inc., Winston-Salem, NC

Mandatory for: The requirements of military commissaries and exchanges in accordance with the 41 CFR 51-6.4

Contracting Activity: Military Resale-Defense Commissary Agency

Distribution: C-List

NSN(s)—Product Name(s):

6515-01-656-4831—Tourniquet, Tactical Pneumatic 2 Inch

6515-01-656-6223—Tourniquet, Tactical Pneumatic, 3 Inch

Designated Source of Supply: Alphapointe, Kansas City, MO

Mandatory For: 100% of the requirement of the Department of Defense

Contracting Activity: DEFENSE LOGISTICS AGENCY, DLA TROOP SUPPORT

Distribution: C-List

NSN(s)—Product Name(s): 5110-00-510-4505—Riffler Set, Die Sinker's, 12PC

Designated Source of Supply: South Texas Lighthouse for the Blind, Corpus Christi, TX

Mandatory for: Total Government Requirement

Contracting Activity: FEDERAL ACQUISITION SERVICE, FAS HEARTLAND REGIONAL ADMINISTRATO

Distribution: B-List

Service(s)

Service Type: Contractor Operated Parts Store (COPARS)

Mandatory for: US Marine Corps, Motor Transportation Department, Marine Corps Base Hawaii, Kaneohe Bay, HI

Designated Source of Supply: Training, Rehabilitation, & Development Institute, Inc., San Antonio, TX

Contracting Activity: DEPT OF THE NAVY, HQBN MCBH

Service Type: Document Management Service

Mandatory for: National Geospatial-Intelligence Agency, Records Management Program, St Louis, MO

Designated Source of Supply: ServiceSource, Inc., Oakton, VA

Contracting Activity: NATIONAL GEOSPATIAL-INTELLIGENCE AGENCY (NGA), NATL GEOSPATIAL-INTELLIGENCE AGENCY

Service Type: Furniture Design, Configuration, and Installation Service

Mandatory for: U.S. Department of Commerce, US Census Bureau, 4600 Silver Hill Road; and Bowie Computer Center, Suitland, MD

Designated Source of Supply: Industries for the Blind and Visually Impaired Inc., 445 S Curtis Road, West Allis, WI

Contracting Activity: U.S. Department of Commerce, US Census Bureau National Processing Center

Deletions

The following product(s) and service(s) are proposed for deletion from the Procurement List:

Product(s)

NSN(s)—Product Name(s): 7520-01-451-9178—Pen, Ballpoint, Retractable, Essential LVX, Black, Medium Point

Designated Source of Supply: Industries for the Blind and Visually Impaired, Inc., West Allis, WI

Contracting Activity: GSA/FAS ADMIN SVCS ACQUISITION BR(2, NEW YORK, NY

NSN(s)—Product Name(s): 8440-00-000-0000—Belt, Trousers

Designated Source of Supply: Travis Association for the Blind, Austin, TX

Contracting Activity: DLA TROOP SUPPORT, PHILADELPHIA, PA

NSN(s)—Product Name(s):

AF335—Jacket, USAF, Unisex, Cold Weather Waist Length Insulated, Blue, Sizes S thru 2XL

AF340—Turtleneck, USAF, Unisex, Dark Navy Blue, Numerous Sizes

AF330—Jacket, USAF, Waist Length, Unisex, Dark Navy Blue, Numerous Sizes

AF320—Pants, USAF, Unisex, Rain, Dark Navy Blue, Numerous Sizes

AF310—Jacket, USAF, ¾ Length, Unisex, Dark Navy Blue, Numerous Sizes

AF380—Over Pants, USAF, Unisex, Cold Weather, Dark Navy Blue, Numerous Sizes

AF420—Nameplate, Class A, USAF, Metal, Polished Nickel Finish with black Lettering

AF412B—Belt, Class B/Primary Duty, USAF, Unisex, Black Leather, Numerous Sizes

AF411A—Belt, Class A/Primary Duty, USAF, Unisex, Black Leather, Numerous Sizes

AF9440—Badge, USAF, “DEPUTY CHIEF”, Metallic Polished Nickel Finish, 1″ x ⅞″

AF9450—Badge, USAF, “ASSISTANT TO THE OPERATIONS OFFICER”, Metallic Polished Nickel Finish, 1″x ⅞″

AF9460—Badge, USAF, “SHIFT SUPERVISOR”, Metallic Polished Nickel Finish, 1″ x ⅞″

AF9470—Badge, USAF, “TRAINING SUPERVISOR”, Metallic Polished Nickel Finish, 1″ x ⅞″

AF9490—Necktie, USAF, Unisex, Dark Navy Blue

AF9483—Insignia, USAF, Collar Chevrons Officer (3 Stripes), USAF Metallic Silver or Polished Nickel Finish

AF9482—Insignia, USAF, Collar Chevrons Officer (2 stripes), USAF, Metallic Silver or Polished Nickel Finish

AF9412—Badge, “Police”, USAF, Nickel Finish, 3″ x 2″

AF9411—Patch, USAF, Longevity Stripe, Blue and Gold

AF110—Shirt, Class A/Primary Duty, USAF, Men's, Long Sleeve, Dark Navy Blue, Numerous Sizes

AF111—Shirt, Class A/Primary Duty, USAF, Women's, Long Sleeve, Dark Navy Blue, Numerous Sizes

AF9415—Hat Badge, Formal, USAF, Nickel Finish

AF9410P—Patch, “Police”, USAF, Half Size, 3″ x 2″

AF9414G—Patch, “Guard”, USAF, Half Size, 3″ x 2″

AF9413P—Patch, “Police”, USAF, Full Size, 4″ x ⅝″

AF9413G—Patch, “Guard”, USAF, Full Size, 4″ x ⅝″

AF230—Trousers, class B/Utility, USAF, Unisex, Dark Navy Blue, Numerous Sizes

AF220—Shirt, Class B/Utility, USAF, Short Sleeve, Unsex, Dark Navy Blue, Numerous Sizes

AF210—Shirt, Class B/Utility, USAF, Long Sleeve, Unisex, Dark Navy Blue, Numerous Sizes

AF150—Hat, Formal, USAF, Unisex, Dark Navy Blue, S;M;L;XL

AF140—Ballcap, Standard, USAF, Unisex, Dark Navy Blue, M/L;L/XL

AF131—Pants, Class A/Primary Duty, USAF, Women's, Flex Waist, Dark Navy Blue, Numerous Sizes

AF130—Pants, Class A/Primary Duty, USAF, Men's, Flex Waist, Dark Navy Blue, Numerous Sizes

AF120—Shirt, Class A/Primary Duty, USAF, Men's, Short Sleeve, Dark Navy Blue, Numerous Sizes

AF121—Shirt, Class A/Primary Duty, USAF, Women's Short Sleeve, Dark Navy Blue, Numerous Sizes

AF9410—Necktie Bar Clasp, USAF, Metal, Polished Nickel Finish

AF430—Nameplate, Class B, USAF, Cloth, Dark Navy Blue with Silver/Gray Thread Lettering

AF390—Coveralls/Jumpsuit, USAF, Unisex, Lightweight, Dark Navy Blue, Numerous Sizes

AF370—Parka, USAF, Unisex, Cold Weather, Dark Navy Blue, Numerous Sizes

AF350—Fleece Liner, USAF, Unisex, Dark Navy Blue, Liner for Jacket, Numerous Sizes

AF360—Cap, USAF, Unisex, Lined Weather Watch, Dark Navy Blue, One Size Fits All

Designated Source of Supply: Human Technologies Corporation, Utica, NY

Contracting Activity: FA8003 AFICA DD, WRIGHT PATTERSON AFB, OH

NSN(s)—Product Name(s): 2945-00-019-0280—Kit, Fuel & Oil Filter Element

Designated Source of Supply: SVRC Industries, Inc., Saginaw, MI

Contracting Activity: DLA AVIATION, RICHMOND, VA

NSN(s)—Product Name(s): 2540-00-575-8391—Mirror and Bracket Assembly

Designated Source of Supply: The Opportunity Center Easter Seal Facility—The Ala ES Soc, Inc., Anniston, AL

Contracting Activity: DLA LAND AND MARITIME, COLUMBUS, OH

Service(s)

Service Type: Assembly of Food Packet, Food Packet, Survival, Abandon Ship: NSN 8970-00-299-1365

Designated Source of Supply: National Industries for the Blind, Alexandria, VA

Contracting Activity: DEFENSE LOGISTICS AGENCY, DLA TROOP SUPPORT

Service Type: Prime Vendor support for Foreign Military Sales

Mandatory for: RDECOM Contracting Center—Aberdeen, MD (Off-site: 507 Kent Street, Utica NY), 507 Kent Street, Utica, NY

Designated Source of Supply: Central Association for the Blind & Visually Impaired, Utica, NY

Contracting Activity: DEPT OF THE ARMY, W6QK ACC-APG

Service Type: Assembly of Food Packet

Mandatory for: Defense Supply Center Philadelphia, Philadelphia, PA

Designated Source of Supply: Cincinnati Association for the Blind, Cincinnati, OH

Contracting Activity: DEFENSE LOGISTICS AGENCY, DLA TROOP SUPPORT

Michael R. Jurkowski,
Deputy Director, Business Operations.

[FR Doc. 2021-13606 Filed 6-24-21; 8:45 am]

BILLING CODE 6353-01-P